DEPARTMENT OF COMMERCE

International Trade Administration

[A-570-804]

Continuation of Antidumping Duty Order: Sparklers From the People's Republic of China

AGENCY: Import Administration, International Trade Administration, Department of Commerce.

SUMMARY: As a result of the determinations by the Department of Commerce (“Department”) and the International Trade Commission (“Commission”) that revocation of this antidumping duty order would be likely to lead to continuation or recurrence of dumping and material injury to an industry in the United States, pursuant to section 751(c) of the Tariff Act of 1930, as amended (“the Act”), the Department hereby orders the continuation of the antidumping duty order on sparklers from the People's Republic of China (“China”). The Department is publishing notice of the continuation of this antidumping duty order.

EFFECTIVE DATE: December 5, 2005.

FOR FURTHER INFORMATION CONTACT: Hilary E. Sadler, Esq. or Maureen Flannery, Office 8, Import Administration, International Trade Administration, U.S. Department of Commerce, 14th Street and Constitution Ave., NW., Washington, DC 20230; telephone: (202) 482-4340 or 482-3020, respectively.

SUPPLEMENTARY INFORMATION:

Background

On June 1, 2005, the Department initiated and the Commission instituted a sunset review of the antidumping duty order on sparklers from China pursuant to section 751(c) of the Act. See Initiation of Five-Year (“Sunset”) Reviews, 70 FR 31537 (June 1, 2005). As a result of its review, the Department found that revocation of the antidumping duty order would be likely to lead to continuation or recurrence of dumping and notified the Commission of the magnitude of the margins likely to prevail were the order to be revoked. See Sparklers from the People's Republic of China; Notice of Final Results of Expedited Sunset Review of Antidumping Duty Order, 70 FR 58382 (October 6, 2005).

On November 15, 2005, the Commission determined, pursuant to section 751(c) of the Act, that revocation of the antidumping duty order on sparklers from China would be likely to lead to continuation or recurrence of material injury to an industry in the United States within a reasonably foreseeable time. See Sparklers from China, 70 FR 70636 (November 22, 2005), USITC Publication 3814 (November 2005) (Investigation No. 731-TA-464 (Second Review)).

Scope of the Order

The products subject to this order are fireworks each comprising a cut-to-length wire, one end of which is coated with a chemical mix that emits bright sparks while burning. Sparklers are currently classified under subheadings 3604.10.10.00, 3604.10.90.10, and 3604.10.90.50 of the Harmonized Tariff Schedule of the United States (“HTSUS”). Sparklers were formerly classified under HTSUS subcategory 3604.10.00. The Department has reviewed the current categories and has determined that sparklers are currently classified in the above subcategories. Although HTSUS subheadings are provided for convenience and customs purposes, the written description of the merchandise under the order is dispositive.

Determination

As a result of the determinations by the Department and the Commission that revocation of this antidumping duty order would be likely to lead to continuation or recurrence of dumping and material injury to an industry in the United States, pursuant to sections 751(d)(2)(A) and (B) of the Act, the Department hereby orders the continuation of the antidumping duty order on sparklers from China.

U.S. Customs and Border Protection will continue to collect antidumping duty deposits at the rates in effect at the time of entry for all imports of subject merchandise. The effective date of the continuation for this order is the date of publication in the Federal Register of this Notice of Continuation. Pursuant to section 751(c)(2) of the Act, the Department intends to initiate the next five-year review of this antidumping order not later than November 2010.

This sunset review and this continuation notice are in accordance with section 751(c) of the Act and published pursuant to 777(i) of the Act.

Dated: November 29, 2005.
Stephen J. Claeys,
Acting Assistant Secretary for Import Administration.

[FR Doc. E5-6846 Filed 12-2-02; 8:45 am]

BILLING CODE 3510-DS-S